DEPARTMENT OF ENERGY

Federal Energy Regulatory Commission

Combined Notice of Filings #1

Take notice that the Commission received the following electric corporate filings:

Docket Numbers: EC18-105-000.

Applicants: GenOn Energy Management, LLC, GenOn Mid-Atlantic, LLC, NRG REMA LLC.

Description: Joint Application of GenOn Energy Management, LLC, et al. for Approval Under Section 203 of the Federal Power Act and Request for Expedited Action.

Filed Date: 6/20/18.

Accession Number: 20180620-5120.

Comments Due: 5 p.m. ET 7/11/18.

Docket Numbers: EC18-106-000.

Applicants: Colorado Green Holdings LLC.

Description: Application for Approval Pursuant to Section 203 of the Federal Power Act, and Requests for Waivers, Privileged Treatment and Expedited Consideration of Colorado Green Holdings LLC.

Filed Date: 6/21/18.

Accession Number: 20180621-5077.

Comments Due: 5 p.m. ET 7/12/18.

Take notice that the Commission received the following exempt wholesale generator filings:

Docket Numbers: EG18-102-000.

Applicants: Holloman Lessee LLC.

Description: Notice of Self-Certification of Exempt Wholesale Generator Status of Holloman Lessee LLC.

Filed Date: 6/21/18.

Accession Number: 20180621-5057.

Comments Due: 5 p.m. ET 7/12/18.

Take notice that the Commission received the following electric rate filings:

Docket Numbers: ER13-1667-003.

Applicants: Battery Utility of Ohio, LLC.

Description: Notice of Change in Status of Battery Utility of Ohio, LLC.

Filed Date: 6/20/18.

Accession Number: 20180620-5118.

Comments Due: 5 p.m. ET 7/11/18.

Docket Numbers: ER17-469-002.

Applicants: Southwest Power Pool, Inc.

Description: Compliance filing: Midwest Energy Formula Rate Revisions Compliance Filing to be effective 1/1/2017.

Filed Date: 6/21/18.

Accession Number: 20180621-5025.

Comments Due: 5 p.m. ET 7/12/18.

Docket Numbers: ER18-1703-001.

Applicants: Entergy Arkansas, Inc., Entergy Mississippi, Inc., Entergy New Orleans, LLC, Entergy Texas, Inc., Entergy Louisiana, LLC.

Description: Tariff Amendment: Entergy OpCos Reactive Power Update Errata (ER18-1703) to be effective 6/1/2018.

Filed Date: 6/21/18.

Accession Number: 20180621-5075.

Comments Due: 5 p.m. ET 7/12/18.

Docket Numbers: ER18-1811-000.

Applicants: Southwest Power Pool, Inc.

Description: § 205(d) Rate Filing: 1276R17 KCPL NITSA NOA to be effective 9/1/2018.

Filed Date: 6/21/18.

Accession Number: 20180621-5033.

Comments Due: 5 p.m. ET 7/12/18.

Docket Numbers: ER18-1812-000.

Applicants: Midcontinent Independent System Operator, Inc.

Description: § 205(d) Rate Filing: 2018-06-21 SA 3126/3127 ATC-WEPCo Project Commitment Agrmts Juneautown to be effective 8/21/2018.

Filed Date: 6/21/18.

Accession Number: 20180621-5054.

Comments Due: 5 p.m. ET 7/12/18.

Take notice that the Commission received the following electric securities filings:

Docket Numbers: ES18-41-000.

Applicants: Northern Pass Transmission LLC.

Description: Application for Authority to Issue Debt Securities of Northern Pass Transmission LLC.

Filed Date: 6/20/18.

Accession Number: 20180620-5131.

Comments Due: 5 p.m. ET 7/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2018.
Nathaniel J. Davis, Sr.,
Deputy Secretary.

[FR Doc. 2018-13846 Filed 6-26-18; 8:45 am]

BILLING CODE 6717-01-P